DEPARTMENT OF COMMERCE

National Oceanic and Atmospheric Administration

RIN 0648-XC084

Fisheries of the Exclusive Economic Zone Off Alaska; Notice of Public Workshop for Bering Sea and Aleutian Islands Crab Economic Data Reports

AGENCY: National Marine Fisheries Service (NMFS), National Oceanic and Atmospheric Administration (NOAA), Commerce.

ACTION: Notice of public workshop.

SUMMARY: NMFS and the Alaska Fishery Science Center (AFSC) will hold a public workshop in Seattle, WA, to review draft revisions to the Bering Sea and Aleutian Islands (BSAI) Crab Economic Data Reports (EDR) currently required from catcher vessels, catcher/processors, shoreside processors, and stationary floating crab processors participating in the BSAI Crab Rationalization Program.

DATES: The workshop will be held on Friday, July 20, 2012, from 9 a.m. to 5 p.m. Pacific Daylight Time.

ADDRESSES: The workshop will be held in the Nordby Conference Room, Fisherman's Terminal, 3919 18th Avenue West, Seattle, WA 98119-1679.

FOR FURTHER INFORMATION CONTACT: Dr. Brian Garber-Yonts, AFSC, (206) 526-6301 or Karen Palmigiano, NMFS Alaska Region, at 907-586-7240.

SUPPLEMENTARY INFORMATION: The workshop is being held to review preliminary draft EDR forms for catcher vessels, catcher/processors, shoreside crab processors, and stationary floating crab processors participating in the Crab Rationalization Program fisheries, as well as Registered Crab Receivers that participate in the fisheries as non-processing crab buyers. The preliminary draft EDR forms are intended to implement changes to the crab EDR requirements recommended by the North Pacific Fishery Management Council (Council) on February 4, 2012.

The Council's preferred alternative for crab EDR revisions eliminates redundant data reporting by removing requirements to report data that is collected through other sources. It also eliminates data inaccuracies in order to reduce the cost of collecting the data, and clarifies EDR form instructions to reduce the burden on those required to complete the forms. More information on the Council recommendation and a description of the preferred alternative, Modified Alternative 3, can be accessed at the link below.

The workshop is intended to gather input from participants on the preliminary draft EDR forms. Feedback received during the workshop will also be used by NMFS to develop the proposed rule to implement the Council's preferred alternative. Other topics to be addressed at the workshop include general planning for administration of the EDR process by NMFS' Data Collection Agent (Pacific States Marine Fisheries Commission [PSMFC]), future potential for online reporting, and the development of the draft proposed rule implementing the Council's preferred alternative to revise the EDR requirements.

Documents describing the draft revised EDR reporting instructions and forms for catcher vessels, catcher/processors, shoreside crab processors, and stationary floating crab processors can be downloaded at http://www.alaskafisheries.noaa.gov/sustainablefisheries/crab/rat/edr/. The Council motion and description of the preferred alternative to revise crab EDR requirements, can be downloaded at http://www.alaskafisheries.noaa.gov/npfmc/PDFdocuments/catch_shares/Crab/CrabEDR_Motion212.pdf, and the Public Review Draft Regulatory Impact Review/Initial Regulatory Flexibility Analysis for Modification of Economic Data Reports can be downloaded at http://www.alaskafisheries.noaa.gov/npfmc/PDFdocuments/catch_shares/Crab/CrabEDR212.pdf.

Special Accommodations

These workshops are physically accessible to people with disabilities. Requests for special accommodations should be directed to Brian Garber-Yonts (see FOR FURTHER INFORMATION CONTACT) at least 5 working days before the workshop date.

Dated: July 2, 2012.
Emily Menashes,
Deputy Director, Office of Sustainable Fisheries, National Marine Fisheries Service.

[FR Doc. 2012-16717 Filed 7-6-12; 8:45 am]

BILLING CODE 3510-22-P